DEPARTMENT OF LABOR

Employment and Training Administration

Agency Information Collection Activities; Comment Request; DOL-Only Performance Accountability, Information, and Reporting System

AGENCY: Employment and Training Administration (ETA), Labor.

ACTION: Notice of availability; request for comments.

SUMMARY: The Department of Labor (DOL or Department) is soliciting comments concerning the measures of performance for the Senior Community Service Employment Program (SCSEP). The Older Americans Act Reauthorization Act of 2016 (OAA-2016) amended the measures of performance for SCSEP to align them with the performance measures under the Workforce Innovation and Opportunity Act (WIOA). The Department added performance information collection requirements for SCSEP to the information collection request (ICR) titled, “DOL-Only Performance Accountability, Information, and Reporting System.” This comment request is part of continuing Departmental efforts to reduce paperwork and respondent burden in accordance with the Paperwork Reduction Act of 1995 (PRA).

DATES: Submit written comments to the office listed in the addresses section below on or before February 12, 2018.

ADDRESSES: Comments submitted in response to this notice should be submitted electronically through the Federal eRulemaking Portal at http://www.regulations.gov by selecting Docket ID number ETA-2017-0006 or via postal mail, commercial delivery, or hand delivery. A copy of the ICR with applicable supporting documentation, including a description of the likely respondents, proposed frequency of response, and estimated total burden, may be obtained free of charge from http://www.regulations.gov or by contacting Herman L. Quilloin III by telephone at 202-693-3994 (this is not a toll-free number) or by email at Quilloin.Herman@dol.gov. Individuals with hearing or speech impairments may access the telephone number above via TTY by calling the toll-free Federal Information Relay Service at 1-877-889-5627 (TTY/TDD). Fax: 202-693-2766.

Mail and hand delivery/courier: Send written comments to: Herman L. Quilloin III, Office of Policy Development and Research, Room N5641, Employment and Training Administration, U.S. Department of Labor, 200 Constitution Avenue NW, Washington, DC 20210. Due to security-related concerns, there may be a significant delay in the receipt of submissions by United States Mail. You must take this into consideration when preparing to meet the deadline for submitting comments.

Comments submitted in response to this comment request will become a matter of public record and will be summarized and included in the request for Office of Management and Budget (OMB) approval of the information collection request. In addition, comments, regardless of the delivery method, will be posted without change on the http://www.regulations.gov website; consequently, the Department recommends commenters not include personal information such as a Social Security Number, personal address, telephone number, email address, or confidential business information that they do not want made public. It is the responsibility of the commenter to determine what to include in the public record.

FOR FURTHER INFORMATION CONTACT: Herman L. Quilloin III by telephone at 202-693-3994 (this is not a toll-free number) or by email at Quilloin.Herman@dol.gov.

SUPPLEMENTARY INFORMATION:

I. Background

The DOL, as part of its continuing effort to reduce paperwork and respondent burden, conducts a pre-clearance consultation process to provide the general public and Federal agencies with an opportunity to comment on proposed and/or continuing collections of information before submitting them to the OMB for final approval. This process helps ensure that requested data can be provided in the desired format, reporting burden (time and financial resources) is minimized, collection instruments are clearly understood, and the impact of collection requirements can be properly assessed.

The DOL-Only ICR was developed based on the requirements in WIOA Sec. 116. The Department amended the information collection by adding the performance-related reporting requirements for SCSEP to the Participant Individual Record Layout (PIRL) (ETA-9172), and (Program) Performance Report (ETA-9173).

The Department requires grantees to certify and submit the ETA (Program) Performance Report to ETA on a quarterly basis. ETA will aggregate the information the grantees submit through the PIRL to populate the ETA (Program) Performance Report and grantees will confirm their accuracy.

The OAA-2016 amended the SCSEP core indicators of performance and requires the amended measures to be implemented by regulation by December 31, 2017. SCSEP will retain its current ICR (under OMB Control Number 1205-0040) for data elements not contained in the revised DOL-Only Performance Accountability, Information and Reporting System. This ICR incorporates the SCSEP Interim Final Rule citations, as required by 5 CFR 1320.11(h). Those citations are sections 20 CFR parts: 641.700, 641.710, 641.720, 641.730, 641.740, and 641.750.

The OAA amended the measures of performance for SCSEP in large part to align SCSEP performance measures with the three employment outcome indicators mandated for WIOA core programs under WIOA sec. 116(b)(2)(A)(i)(I)-(III). In addition to these three WIOA employment outcome indicators of performance, SCSEP has three measures related to participation in the program: Service level, hours of community service, and service to the most-in-need.

The Department proposes to amend the information collection by adding the regulatory citations from the SCSEP Interim Final Rule to comply with the PRA. The Department plans to review and analyze any comments received in response to this Federal Register Notice in order to finalize the substantive information collection requirements to the extent legally possible.

II. Review Focus

The Department is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submissions of responses).

III. Current Actions

DOL-Only Performance Accountability, Information, and Reporting System

Agency: DOL-ETA.

Title of Collection: DOL-Only Performance Accountability, Information, and Reporting System.

Type of Review: Revision.

OMB Control Number: 1205-0521.

Affected Public: State, Local, and Tribal Governments; Individuals or Households; and Private Sector—businesses or other for-profits and not-for-profit institutions.

Obligation to Respond: Required to Obtain or Retain Benefits.

Estimated Total Annual Respondents: 17,532,542.

Estimated Total Annual Responses: 35,064,970.

Estimated Total Annual Burden Hours: 8,938,029.

Rosemary Lahasky,
Deputy Assistant Secretary for Employment and Training Administration, Labor.

[FR Doc. 2017-26677 Filed 12-11-17; 8:45 am]

BILLING CODE 4510-FN-P